FEDERAL MARITIME COMMISSION

Meeting

Time and Date: 10 a.m.—November 8, 2006.

Place: 800 North Capitol Street, NW., First Floor Hearing Room, Washington, DC.

Status: Closed.

Matters To Be Considered:

1. Docket No. 02-08—Odyssea Stevedoring of Puerto Rico, Inc. v. Puerto Rico Ports Authority;

2. Docket No. 04-01—International Shipping Agency, Inc. v. the Puerto Rico Ports Authority;

3. Docket No. 04-06—San Antonio Maritime Corp. and Antilles Cement Corp. v. Puerto Rico Ports Authority;

4. Docket No. 99-16—Carolina Marine Handling, Inc. v. South Carolina State Ports Authority, Charleston Naval Complex Redevelopment Authority, Charleston International Projects, Inc. and Charleston International Ports, LLC;

5. Docket No. 06-01—Worldwide Relocations, Inc., All-in-One Shipping, Inc., Boston Logistics Corp., Around the World Shipping, Inc., Tradewind Consulting, Inc., Global Direct Shipping, Megan K. Karpick (a.k.a. Catherine Kaiser, Kathryn Kaiser, Catherine Kerpick, Megan Kaiser and Alexandria Hudson), Martin J. McKenzie, Patrick John Costadoni, Elizabeth F. Hudson, Sharon Fachler, and Oren Fachler, et al.—Possible Violations of Sections 8, 10 and 19 of the Shipping Act of 1984 and the Commission's Regulations at 46 CFR 515.3, 515.21 and 520.3.

Contact Person for More Information: Bryant L. VanBrakle, Secretary, (202) 523-5725.

Karen V. Gregory,
Assistant Secretary.

[FR Doc. 06-9083 Filed 11-1-06; 2:05 pm]

BILLING CODE 6730-01-M